ENVIRONMENTAL PROTECTION AGENCY

[FRL-7210-4]

Proposed Agreement Pursuant to Section 122(h)(1) of CERCLA for the Beloit Corporation Superfund Site

AGENCY: Environmental Protection Agency (“EPA”).

ACTION: Notice; request for public comment on proposed CERCLA 122(h)(1) agreement for the Beloit Corporation Superfund Site.

SUMMARY: In accordance with Section 122(i) of the Comprehensive Environmental Response, Compensation, and Liability Act of 1980, as amended (“CERCLA”), notice is hereby given of a proposed administrative cost recovery settlement under Section 122(h)(1) of CERCLA concerning the Beloit Corporation Superfund Site in Rockton, Illinois (the “Site”). The proposed settlement was signed by the Director, Superfund Division, of Region 5, EPA on February 13, 2002, and has been approved by the Assistant Attorney General for the Environment and Natural Resources Division of the U.S. Department of Justice. The settlement has also been approved by the Chief Legal Counsel for the Illinois Environmental Protection Agency, and by the Chief of the Environmental Bureau of the Illinois Attorney General's Office.

Pursuant to the terms of the proposed settlement, Giuffre II, a limited liability company under Wisconsin law (“Giuffre”), will resolve: (1) Its alleged civil liability under CERCLA as an operator at the Site; and (2) its potential liability for Existing Contamination, as that term is defined in the settlement agreement, which would otherwise result from Giuffre becoming the owner and/or operator of the Beloit Property. Giuffre will make effective one or more irrevocable letters of credit in the total amount of $3 million. After the selection of the final remedial action for the Site in a Record of Decision (“ROD”), which EPA currently expects to occur in September of 2002, EPA will engage in Remedial Design/Remedial Action (“RD/RA”) negotiations with Giuffre. As provided by section 121(f)(1)(F), the State of Illinois will be provided the opportunity to participate in those negotiations. If those negotiations are successful, Giuffre will enter into an RD/RA Consent Decree, and EPA will release and return any unexercised letters of credit to Giuffre upon that company's substitution of financial assurance meeting the requirements of the RD/RA Consent Decree. In the event RD/RA negotiations are unsuccessful, then EPA will draw on the letters of credit provided by Giuffre and transfer the proceeds into a Beloit Special Account, to be used to pay for the costs associated with the remedial action selected in the ROD.

For thirty (30) days following the date of publication of this notice, the Agency will receive written comments relating to the proposed settlement. The Agency will consider all comments received and may modify or withdraw its consent to the settlement if comments received disclose facts or considerations which indicate that the settlement is inappropriate, improper or inadequate. The Agency's response to any comments received will be available for public inspection at the Talcott Free Library, located at 101 East Main Street, Rockton, Illinois 61072, and at EPA, Region 5, 77 West Jackson Boulevard, Chicago, Illinois 60604.

DATES: Comments must be submitted on or before June 10, 2002.

ADDRESSES: The proposed settlement and additional background information relating to the settlement are available for public inspection at 77 West Jackson Boulevard, Chicago, Illinois 60604. A copy of the proposed settlement may be obtained from Sonja Brooks, Regional Docket Clerk, Region 5, EPA, 77 West Jackson Boulevard (R-19J), Chicago, Illinois 60604 (312-886-3617). Comments should reference the Beloit Corporation Superfund Site in Rockton, Illinois, and EPA Docket No. V-W-02-C-678, and should be addressed to Eileen L. Furey, Associate Regional Counsel, 77 W. Jackson Boulevard (C-14J), Chicago, Illinois 60604 (312-886-7950).

FOR FURTHER INFORMATION CONTACT: Eileen Furey at the address and phone number specified above.

Dated: May 3, 2002.
William E. Muno,
Director, Superfund Division, Region 5.

[FR Doc. 02-11741 Filed 5-9-02; 8:45 am]

BILLING CODE 6560-50-P